NATIONAL SCIENCE FOUNDATION

Sunshine Act Meeting; National Science Board

The National Science Board's Awards and Facilities Committee, pursuant to NSF regulations (45 CFR part 614), the National Science Foundation Act, as amended (42 U.S.C. 1862n-5), and the Government in the Sunshine Act (5 U.S.C. 552b), hereby gives notice of the scheduling of a teleconference on short notice for the transaction of National Science Board business, as follows:

Date & Time: July 13, 2017, from 1:00-2:00 p.m. EDT.

Subject Matter: (1) Committee Chair's opening remarks; (2) Discussion of NEON's Science, Technology, & Education Advisory Committee's assessment of budget scenarios for NEON operations & maintenance.

Status: Closed.

This meeting will be held by teleconference at the National Science Foundation, 4201 Wilson Blvd., Arlington, VA 22230. Please refer to the National Science Board Web site www.nsf.gov/nsb for additional information. You can find meeting information and updates (time, place, subject or status of meeting) at https://www.nsf.gov/nsb/meetings/index.jsp. The point of contact for this meeting is: Elise Lipkowitz, 4201 Wilson Blvd., Arlington, VA 22230. Telephone: (703) 292-7000.

Ann Bushmiller,
Senior Counsel to the National Science Board.

[FR Doc. 2017-14168 Filed 6-30-17; 4:15 pm]

BILLING CODE 7555-01-P